FEDERAL MARITIME COMMISSION

Ocean Transportation Intermediary License Reissuances

Notice is hereby given that the following Ocean Transportation Intermediary licenses have been reissued by the Federal Maritime Commission pursuant to section 19 of the Shipping Act of 1984, as amended by the Ocean Shipping Reform Act of 1998 (46 U.S.C. app. 1718) and the regulations of the Commission pertaining to the licensing of Ocean Transportation Intermediaries, 46 CFR 515.

License No. | Name/Address | Date reissued
004108N | DRT International, Incorporated, 7762 NW. 72nd Avenue, Medley, FL 33166 | October 24, 2004.
004263N | Distribution Transportation Services Company, 827 West Terra Lane, O'Fallon, MO 63366 | September 20, 2004.

Sandra L. Kusumoto,
Director, Bureau of Certification and Licensing.

[FR Doc. 04-27442 Filed 12-14-04; 8:45 am]

BILLING CODE 6730-01-P